DEPARTMENT OF ENERGY

Federal Regulatory Commission

[Docket No. RP00-176-000]

ANR Pipeline Company; Notice of Reconciliation Report

February 4, 2000.

Take notice that on January 31, 2000, ANR Pipeline Company (ANR) tendered for filing this reconciliation report as required by Section 28.1 (a)(3) of the General Terms and Conditions (GT&C) of its Second Revised Volume No. 1 FERC Gas Tariff.

ANR states that the reconciliation report is regarding the recovery of transition costs ANR incurred pursuant to Order NO. 636. ANR reports that it has experienced a slight underrecovery of transition costs ($22,520), which it does not propose to collect from its customers.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before February 11, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-3048 Filed 2-9-00; 8:45 am]

BILLING CODE 6717-01-M